DEPARTMENT OF AGRICULTURE

Grain Inspection, Packers and Stockyards Administration

United States Standards for Beans

AGENCY: Grain Inspection, Packers and Stockyards Administration, USDA.

ACTION: Notice; request for public comment.

SUMMARY: The United States Department of Agriculture's (USDA) Grain Inspection, Packers and Stockyards Administration (GIPSA) is proposing a revision to the United States Standards for Beans to (1) establish a class and grade requirement chart for “chickpeas,” also known as “garbanzo beans,” and (2) establish a new grade determining factor, definition, factor limits, and visual reference image for “contrasting chickpeas.” These revisions are being proposed at the request of the pea and lentil industry, and are supported by the bean industry. GIPSA believes that this proposed revision of the United States Standards for Beans would facilitate the marketing of chickpeas and improve the application of the standards.

DATES: GIPSA will consider comments received by June 14, 2017.

ADDRESSES: GIPSA invites all interested parties submit comments on this Notice. You may submit comments by any of the following methods:

• Mail: M. Irene Omade, GIPSA, USDA, 1400 Independence Avenue SW., Room 2530-S, Washington, DC 20250-3613.

• Hand Delivery or Courier: M. Irene Omade, GIPSA, USDA, 1400 Independence Avenue SW., Room 2530-S, Washington, DC 20250-3613.

• Internet: http://www.regulations.gov. Follow the on-line instructions for submitting comments.

Instructions: All comments should make reference to the date and page number of this issue of the Federal Register. All documents and comments relating to this Notice are available for public inspection in Room 2530-S, 1400 Independence Avenue SW., Washington, DC 20250-3613 during regular business hours (7 CFR 1.27(b)). All comments received will be included in the public docket without change, including any personal information provided. Please call the GIPSA Management and Budget Services support staff (202) 720-8479 for an appointment to view the comments.

FOR FURTHER INFORMATION CONTACT: Beverly A. Whalen at GIPSA, USDA, 10383 N. Ambassador Drive, Kansas City, MO 64153; Telephone: (816) 659-8410; Fax: (816) 872-1258; Beverly.A.Whalen@usda.gov.

SUPPLEMENTARY INFORMATION: Section 203(c) of the Agricultural Marketing Act of 1946, as amended, (AMA), directs and authorizes the Secretary of Agriculture “To develop and improve standards of quality, condition, quantity, grade, and packaging and recommend and demonstrate such standards in order to encourage uniformity and consistency in commercial practices.” GIPSA is committed to carrying out this authority in a manner that facilitates the marketing of agricultural commodities.

Under the AMA, GIPSA establishes standards for graded commodities including rice, whole dry peas, split peas, feed peas, lentils, and beans. The AMA standards are voluntary and widely used in private contracts, government procurement, marketing communication, and/or consumer information. The standards serve as a common trading language to define commodity quality in the domestic and global marketplace.

Background

GIPSA engages in regular outreach with stakeholders to ensure commodity standards maintain relevance with the modern market. Chickpea industry stakeholders include the USA Dry Pea and Lentil Council (USADPLC), a national organization of producers, processors, and exporters of U.S. dry peas, lentils, and chickpeas; the US Dry Pea and Lentil Trade Association (USPLTA), a national association representing processors, traders, and transporters in the pea, lentil and chickpea industry; and the US Dry Bean Council (USDBC), representing the U.S. dry bean industry, including growers, shippers, dealers, canners, state, and regional trade associations.

The United States Standards for Beans are found on GIPSA's public Web site at: https://www.gipsa.usda.gov/fgis/standards/Bean-Standards.pdf. USDPLC and USPLTA reviewed the United States Standards for Beans, which were last revised in 2008. According to information received by GIPSA from these stakeholders, chickpea acreage has expanded in the U.S. rapidly over the last several years and is expected to increase in 2017. Consequently, the stakeholders communicated the need to establish “chickpeas” as a specific class in order to better define them in the marketplace.

Currently, chickpeas are graded under the Miscellaneous Bean standard. This is confusing to the market because GIPSA issues an “AMA Commodity Inspection Certificate” providing the commonly accepted commercial name, “chickpea” or “garbanzo” as the class on the certificate grade line. Specifically, these groups asked GIPSA to (1) establish a class and grade requirement chart for “chickpeas,” (2) use the terms “chickpeas” and “garbanzo beans” interchangeably, and (3) establish a new grade determining factor, definition, factor limits, and visual reference image for “contrasting chickpeas.”

GIPSA provides official inspection procedures for beans in the Bean Handbook, found on GIPSA's public Web site at: https://www.gipsa.usda.gov/fgis/handbook/BeanHB/BeanHandbook_2016-02-23.pdf.

Establishment of Class “Chickpeas”

The stakeholders jointly recommended that GIPSA establish a new class and grade requirement chart for “chickpea,” and also recommended a new grade determining factor, definition, and factor limits for grades No's 1, 2, and 3 for “contrasting chickpeas.” GIPSA and these stakeholders collaborated to develop a visual reference image that best reflects the “contrasting chickpeas” condition. The stakeholder endorsed the following definition:

Contrasting chickpeas are chickpeas that differ substantially in shape or color.

The table of grade and grade requirements for Chickpeas (Garbanzo Beans) would be:

135 Grades and Grade Requirements for the Class Chickpea
[Garbanzo Bean]
Grade | Percent maximum limits of—: Moisture ¹ | Percent maximum limits of—: Total defects (total damaged, total foreign material, contrasting classes, & Splits) | Percent maximum limits of—: Total damaged | Percent maximum limits of—: Foreign material: Total (including stones) | Percent maximum limits of—: Foreign material: Stones | Percent maximum limits of—: Contrasting classes ² | Percent maximum limits of—: Contrasting chickpeas ³
U.S. No. 1 | 18.0 | 2.0 | 2.0 | 0.5 | 0.2 | 0.5 | 1.0
U.S. No. 2 | 18.0 | 4.0 | 4.0 | 1.0 | 0.4 | 1.0 | 2.0
U.S. No. 3 | 18.0 | 6.0 | 6.0 | 1.5 | 0.6 | 2.0 | 5.0
U.S. Substandard are beans that do not meet the requirements for the grades U.S. No. 1 through U.S. No. 3 or U.S. Sample grade. Beans that are not well screened must also be U.S. Substandard, except for beans that meet the requirements for U.S. Sample grade.
U.S. Sample grade are beans that are musty, sour, heating, materially weathered, or weevily; have any commercially objectionable odor that contain insect webbing or filth, animal filth, any unknown foreign substance, broken glass, or metal fragments; or are otherwise of distinctly low quality.
¹ Beans with more than 18.0 percent moisture are graded high moisture.
² Beans with more than 2.0 percent contrasting classes are graded mixed beans.
³ Beans with more than 5.0 percent contrasting chickpeas are graded mixed beans.

Proposed GIPSA Action

Based on input from stakeholder organizations in the pea and bean industry who concurred on the need for revisions to the United States Standards for Beans, GIPSA proposes to revise the bean standards to (1) establish a class and grade requirement chart for chickpeas and (2) establish a new grade determining factor, definition, factor limits, and visual reference image for contrasting chickpeas.

Under Terms Defined:

Section 102, Classes, would be amended to include Chickpeas (Garbanzo Beans). A new Section 122, Contrasting Chickpeas would be added.

Under Principles Governing Application of the Standards:

Current Sections 122, 123, and 124 would be renumbered to 123, 124, and 125 with no change to the text.

Under Grades, Grade Requirements, Grade Designations, Special Grades, and Special Grade Requirements:

Current Sections 125, 126, 127, 128, 129, 130, 131, 132, and 133 would be renumbered to 126, 127, 128, 129, 130, 131, 132, 133, 134, with no change to the text.

A new Section 135, Grade and grade requirements for the class Chickpeas (Garbanzo Beans) would be added.

Current Sections 134 and 135 would be renumbered to 136 and 137, respectively, with no change to the text.

GIPSA will solicit comments for 30 days. All comments received within the comment period will be made part of the public record maintained by GIPSA, will be available to the public for review, and will be considered by GIPSA before a final action is taken on this proposal.

The Bean Handbook would be revised to incorporate any revision to the standards.

Authority: 7 U.S.C. 1621-1627.

Randall D. Jones,
Acting Administrator, Grain Inspection, Packers and Stockyards Administration.

[FR Doc. 2017-09721 Filed 5-12-17; 8:45 am]

BILLING CODE 3410-KD-P